INTERNATIONAL TRADE COMMISSION

[Investigations Nos. 701-TA-409-412 and 731-TA-909 (Final)]

Low Enriched Uranium From France, Germany, The Netherlands and the United Kingdom

AGENCY: International Trade Commission.

ACTION: Reopening of the record and request for comments for the subject investigations.

SUMMARY: The U.S. International Trade Commission (the Commission) hereby gives notice that it is reopening the record in these investigations for the purpose of considering new factual information submitted on January 15, 2002, by petitioner USEC Inc. concerning the agreement between the governments of the United States and Russia regarding the purchase of certain low enriched uranium. The Commission is not reopening the record for any purpose other than to receive comments from any party on this new factual information. On or before January 17, 2002, parties may submit final comments, not to exceed 10 pages, double-spaced and single-sided, on stationery measuring 8½ by 11 inches, addressing only this new factual information, but such final comments must not contain any new factual information not previously submitted for the record and must otherwise comply with section 207.68 of the Commission's rules.

All written submissions must conform with the provisions of section 201.8 of the Commission's rules; any submissions that contain business proprietary information (BPI) must also conform with the requirements of sections 201.6, 207.3, and 207.7 of the Commission's rules. The Commission's rules do not authorize filing of submissions with the Secretary by facsimile or electronic means.

In accordance with sections 201.16(c) and 207.3 of the Commission's rules, each document filed by a party to the investigations must be served on all other parties to the investigations (as identified by either the public or BPI service list), and a certificate of service must be timely filed. The Secretary will not accept a document for filing without a certificate of service.

SUPPLEMENTARY INFORMATION: On September 5, 2001, the Commission published notice establishing a schedule for the conduct of the final phase of the subject investigations (66 FR 46467, September 5, 2001). Subsequently, the Department of Commerce extended the date for its final determinations in the investigations and on November 19, 2001, the Commission published notice establishing a revised schedule for the investigations (66 FR 57986, November 19, 2001).

For further information concerning these investigations see the Commission's notices cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

By order of the Commission.
Issued: January 16, 2002.
Marilyn R. Abbott,
Acting Secretary.

[FR Doc. 02-1570 Filed 1-22-02; 8:45 am]

BILLING CODE 7020-02-P